DEPARTMENT OF LABOR

Employment and Training Administration

[TA-W-50,391]

Motorola, Inc., Deer Park, IL; Notice of Termination of Investigation

Pursuant to section 221 of the Trade Act of 1974, an investigation was initiated on December 19, 2002, in response to a petition filed on behalf of workers at Motorola, Inc., Deer Park, Illinois.

The Department has amended an active certification for workers of Motorola, Inc., Global Telecom Solutions Sector (GTSS) formerly Network Solutions Sector (NSS) (TA-W-40,501), to include the petitioning group of workers.

Consequently, further investigation in this case would serve no purpose, and the investigation has been terminated.

Signed in Washington, DC, this 17th day of March 2003.
Linda G. Poole,
Certifying Officer, Division of Trade Adjustment Assistance.

[FR Doc. 03-8340 Filed 4-4-03; 8:45 am]

BILLING CODE 4510-30-P